DEPARTMENT OF DEFENSE

Office of the Secretary

Membership of the Performance Review Board

AGENCY: Department of Defense; Defense Finance and Accounting Service, DoD.

ACTION: Notice.

SUMMARY: This notice announces the appointment of the members of the Performance Review Board (PRB) of the Defense Finance and Accounting Service (DFAS). The publication of PRB membership is required by 5 U.S.C. 4314(C)(4).

The PRB provides fair and impartial review of Senior Executive Service performance appraisals and makes recommendations regarding performance ratings and performance scores to the Director, DFAS.

DATES: Effective Date: November 19, 2009.

FOR FURTHER INFORMATION CONTACT: Denise Thornburg, DFAS SES Program Manager, Defense Finance and Accounting Service, Arlington, Virginia, (703) 337-3288.

SUPPLEMENTARY INFORMATION: In accordance with 5 U.S.C. 4314(C)(4), the following executives are appointed to the DFAS PRB:

Richard Gustafson,

Steve Turner,

Nancy Zmyslinski.

Executives listed will serve a one-year renewable term, effective November 19, 2009.

October 19, 2009.
Patricia L. Toppings,
OSD Federal Register Liaison Officer, Department of Defense.

[FR Doc. E9-25697 Filed 10-23-09; 8:45 am]

BILLING CODE 5001-06-P